FEDERAL MARITIME COMMISSION

[Petition No. P2-15]

Petition of the National Customs Brokers and Forwarders Association of America, Inc. for Initiation of Rulemaking; Notice of Filing and Request for Comments

Notice is hereby given that the National Customs Brokers and Forwarders Association of America, Inc. (“Petitioner”), has petitioned the Commission pursuant to 46 CFR 502.51, 502.74 and 502.76 of the Commission's Rules of Practice and Procedure, to initiate a rulemaking to revise the Commission's regulations in 46 CFR part 532, NVOCC Negotiated Rate Arrangements (NRAs) to: (1) allow inclusion of economic terms beyond rates in NRAs, and (2) permit NRAs to be modified at any time upon mutual agreement between a Non-Vessel-Operating Common Carrier (NVOCC) and shipper; and revise 46 CFR part 531, NVOCC Negotiated Service Arrangements (NSAs), to either eliminate the filing and essential terms publication requirement of NSAs or eliminate 46 CFR part 531 in its entirety.

In order for the Commission to make a thorough evaluation of the Petition, interested persons are requested to submit views or arguments in reply to the Petition no later than June 8, 2015. Commenters must send an original and 5 copies to the Secretary, Federal Maritime Commission, 800 North Capitol Street NW., Washington, DC 20573-0001, and be served on Petitioner's counsel, Edward D. Greenberg, GKG Law, P.C., 1055 Thomas Jefferson Street NW., Suite 500, Washington, DC 20007. A PDF copy of the reply must also be sent as an attachment to Secretary@fmc.gov.

If the reply contains confidential information, the confidential filing should not be submitted by email. A confidential filing must be submitted to the Secretary in hard copy only, and be accompanied by a transmittal letter that identifies the filing as “Confidential-Restricted” and describes the nature and extent of the confidential treatment requested. The material for which confidentiality is claimed should be clearly marked on each page. A public version must also be filed that excludes the confidential materials, and must indicate on the cover page and on each affected page “Confidential materials excluded.” The Commission will provide confidential treatment to the extent allowed by law for confidential submissions, or parts of submissions, for which confidentiality has been requested. The Petition will be posted on the Commission's Web site at http://www.fmc.gov/p2-15. Replies filed in response to the Petition will also be posted on the Commission's Web site at this location.

Karen V. Gregory,
Secretary.

[FR Doc. 2015-09833 Filed 4-27-15; 8:45 am]

BILLING CODE 6731-AA-P